DEPARTMENT OF HOUSING AND URBAN DEVELOPMENT

[Docket No. FR-5376-N-35]

Web Survey of the Recipients of Section 108 Funds

AGENCY: Office of the Chief Information Officer, HUD.

ACTION: Notice.

SUMMARY: The proposed information collection requirement described below has been submitted to the Office of Management and Budget (OMB) for review, as required by the Paperwork Reduction Act. The Department is soliciting public comments on the subject proposal.

The Department of Housing and Urban Development (HUD) procured this evaluation in response to the Office of Management and Budget's (OMB) recent Program Assessment Rating Tool (PART review of the Section 108 program). This research will address OMB's concerns by providing suggestions for developing performance measures that focus on outcomes and meaningfully reflect the purpose of the program collects information on the activities, accomplishments and outcomes of Section 108 grantees and collects original information needed for the analysis of program overlap with other Federal programs. The survey will be sent to virtually all recipients that received Section 108 loans from HUD from FY 2002 through FY 2007.

DATES: Comments Due Date: June 16, 2010.

ADDRESSES: Interested persons are invited to submit comments regarding this proposal. Comments should refer to the proposal by name and/or OMB approval Number (2528-Pending) and should be sent to: HUD Desk Officer, Office of Management and Budget, New Executive Office Building, Washington, DC 20503; fax: 202-395-5806.

FOR FURTHER INFORMATION CONTACT: Leroy McKinney Jr., Reports Management Officer, QDAM, Department of Housing and Urban Development, 451 Seventh Street, SW., Washington, DC 20410; e-mail Leroy McKinney Jr. at Leroy.McKinneyJr@hud.gov or telephone (202) 402-5564. This is not a toll-free number. Copies of available documents submitted to OMB may be obtained from Mr. McKinney.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Web Survey of the Recipients of Section 108 Funds.

OMB Approval Number: 2528-Pending.

Form Numbers: None.

Description of the Need for the Information and its Proposed Use: The Department of Housing and Urban Development (HUD) procured this evaluation in response to the Office of Management and Budget's (OMB) recent Program Assessment Rating Tool (PART review of the Section 108 program). This research will address OMB's concerns by providing suggestions for developing performance measures that focus on outcomes and meaningfully reflect the purpose of the program collects information on the activities, accomplishments and outcomes of Section 108 grantees and collects original information needed for the analysis of program overlap with other Federal programs. The survey will be sent to virtually all recipients that received Section 108 loans from HUD from FY 2002 through FY 2007.

Frequency of Submission: One Time Only.

Reporting Burden | Number of respondents | Annual responses | × | Hours per response | = | Burden hours
| 300 | 1 |  | 1.15 |  | 345

Total Estimated Burden Hours: 345.

Status: New collection.

Authority: Section 3507 of the Paperwork Reduction Act of 1995, 44 U.S.C. 35, as amended.

Dated: May 10, 2010.
Leroy McKinney, Jr.,
Departmental Reports Management Officer, Office of the Chief Information Officer.

[FR Doc. 2010-11621 Filed 5-14-10; 8:45 am]

BILLING CODE 4210-67-P